DEPARTMENT OF HEALTH AND HUMAN SERVICES

Administration for Children and Families

Proposed Information Collection Activity; Comment Request; Proposed Projects

Title: Child Care and Development Fund Annual Report (Form ACF-700).

OMB No.: 0980-0241.

Description: The Child Care and Development Fund (CCDF) report requests annual tribal aggregate information on services provided through the CCDF which is required by the Child Care and Development Block Grant (CCDBG) Final Rule (45 CFR Parts 98 and 99). Tribes are required to submit annual aggregate data appropriate to tribal programs on children and families receiving CCDF-funds or CCDBG funded child care services. The CCDBG statute and regulations also require Tribal Lead Agencies to submit a supplemental narrative as part of the ACF-700 report. This narrative describes general child care activities and actions in the Tribal Lead Agency's service area and is not restricted to CCDF-funded child care activities. Instead this description is intended to address all child care available in the Tribal Lead Agency's service area. The ACF-700 and supplemental narrative report will be included in the Secretary's report to Congress, as appropriate, and will be shared with all Tribal Lead Agencies to inform them of CCDF or CCDBG-funded activities in other tribal programs.

Respondents: Tribal CCDF Programs (257 in total).

Annual Burden Estimates
Instrument | Number of respondents | Number of responses per respondent | Average burden hours per response | Total burden hours
CCDF Annual Report | 257 | 1 | 35 | 8,995
Estimated Total Annual Burden Hours |  |  |  | 8,995

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 31, 2001.
Bob Sargis,
Reports Clearance Officer.

[FR Doc. 01-14179 Filed 6-5-01; 8:45 am]

BILLING CODE 4184-01-M